DEPARTMENT OF HOMELAND SECURITY

Coast Guard

33 CFR Part 165

[Docket Number USCG-2025-0898]

RIN 1625-AA00

Safety Zone; Rocket Test Site, Rio Grande River, Boca Chica, TX

AGENCY: Coast Guard, Department of Homeland Security.

ACTION: Notice of proposed rulemaking.

SUMMARY: The Coast Guard is proposing to establish a permanent safety zone for certain navigable waters of the Rio Grande River. The safety zone is needed to protect personnel, vessels, and the marine environment from potential hazards created by cryogenics and structural tests of SpaceX rockets at their Massey's test site. This proposed rulemaking would prohibit persons and vessels from being in the safety zone unless specifically authorized by the Captain of the Port, Sector Corpus Christi. We invite your comments on this proposed rulemaking.

DATES: Comments and related material must be received by the Coast Guard on or before January 29, 2026.

ADDRESSES: To submit comments and view available documents, go to the Federal Docket Management System at https://www.regulations.gov and search for USCG-2025-0898.

FOR FURTHER INFORMATION CONTACT: If you have questions about this proposed rule, contact Lieutenant Timothy Cardenas, Sector Corpus Christi Waterways Management Division, U.S. Coast Guard; telephone 361-244-4784, or email Timothy.J.Cardenas@uscg.mil.

SUPPLEMENTARY INFORMATION:

I. Table of Abbreviations

CFR Code of Federal Regulations

COTP Captain of the Port

DHS Department of Homeland Security

FAA Federal Aviation Administration

FR Federal Register

MSIB Marine Safety Information Bulletin

NASA National Aeronautics and Space Administration

NPRM Notice of proposed rulemaking

§ Section

SpaceX Space Exploration Technologies Corporation

U.S.C. United States Code

II. Background and Authority

The Coast Guard has long monitored commercial spaceflight activities impacting the maritime domain and taken actions to ensure the safety of vessels, persons, and the marine environment. In conducting this activity, the Coast Guard engages with other government agencies, including the Federal Aviation Administration (FAA) and the National Aeronautics and Space Administration (NASA), and private space operators, including Space Exploration Technologies Corporation (SpaceX). Through this engagement, the Coast Guard became aware of an area within the Rio Grande River, known as the Massey's Test Site, which SpaceX uses for pre-launch static fire test operations. Potential hazards from activities at this site include accidental discharge of cryogenic fuel and test failures resulting in dangerous projectiles and falling hot embers or other debris. SpaceX conducts these tests weekly, with plans to increase test frequency. Testing frequency may be as often as daily by the end of 2025.

The Captain of the Port Sector Corpus Christi (COTP) has determined that potential hazards associated with static fire tests are a safety concern for anyone on the Rio Grande River within a half mile of the test site. While SpaceX does follow certain safety protocols during these tests, which include ensuring the area around the test site on the Rio Grande River is clear, the Coast Guard believes that a legally enforceable safety zone will provide a greater measure of safety. Therefore, the COTP is proposing this rule under the authority in 46 U.S.C. 70034, to protect personnel and vessels in the navigable waters within the safety zone. The regulatory text we are proposing appears at the end of this document.

III. Discussion of the Rule

This proposed rule would establish a safety zone that would be activated during times when rocket testing is conducted. The safety zone would cover all navigable waters within a half mile radius of the testing facility. No vessel or person would be permitted to enter the safety zone without obtaining permission from the COTP or their designated representative. The regulatory text we are proposing appears at the end of this document.

IV. Regulatory Analyses

We developed this proposed rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. Section 605 of the RFA allows an agency to certify a rule, in lieu of preparing an analysis, if the rulemaking is not expected to have a significant economic impact on a substantial number of small entities. The Coast Guard certifies under 5 U.S.C. 605(b) that this proposed rule would not have a significant economic impact on a substantial number of small entities for the following reasons.

The area of the Rio Grande River that will be impacted by this safety zone is a shallow water area with little to no regular commercial or recreational vessel traffic. While it will not be possible to transit around the safety zone, any vessels needing to transit through this area will only be delayed for short periods of time as the zone will be activated immediately before a test operation, and will be cancelled once the operation is safely completed. The expected duration of each safety zone activation is between 4-6 hours. The Coast Guard will issue public advisories in advance of each safety zone activation so that persons transiting through this area on the Rio Grande may plan accordingly.

If you think that your business, organization, or governmental jurisdiction qualifies as a small entity and that this proposed rule would have a significant economic impact on it, please submit a comment (see ADDRESSES) explaining why you think it qualifies and how and to what degree this proposed rule would economically affect it.

Under section 213(a) of the Small Business Regulatory Enforcement Fairness Act of 1996 (Pub. L. 104-121), if this proposed rule will affect your small business, organization, or governmental jurisdiction and you have questions, contact the person listed in the FOR FURTHER INFORMATION CONTACT section. Small businesses may send comments to the Small Business and Agriculture Regulatory Enforcement Ombudsman and the Regional Small Business Regulatory Fairness Boards by calling 1-888-REG-FAIR (1-888-734-3247).

B. Collection of Information

This proposed rule will not call for a new collection of information under the Paperwork Reduction Act of 1995 (44 U.S.C. 3501-3520).

C. Federalism and Indian Tribal Governments

We have analyzed this proposed rule under Executive Order 13132, Federalism, and have determined that it is consistent with the fundamental federalism principles and preemption requirements described in that Order.

Also, this proposed rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this proposed rule will not result in an annual expenditure of $100,000,000 or more (adjusted for inflation) by a State, local, or tribal government, in the aggregate, or by the private sector.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This proposed rule is a safety zone. It is categorically excluded from further review under paragraph L60(a) of Appendix A, Table 1 of DHS Instruction Manual 023-01-001-01, Rev. 1. A preliminary Record of Environmental Consideration supporting this determination is available in the docket.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Docket Management System at https://www.regulations.gov. To do so, go to https://www.regulations.gov, type USCG-2025-0898 in the search box and click “Search.” Next, look for this document in the Search Results column, and click on it. Then click on the Comment option. If you cannot submit your material by using https://www.regulations.gov, call or email the person in the FOR FURTHER INFORMATION CONTACT section of this proposed rule for alternate instructions.

Viewing material in the docket. To view available documents, find the docket as described in the previous paragraph, and then select “Supporting & Related Material” in the Document Type column. We will post public comments in our online docket. Additional information is on the https://www.regulations.gov Frequently Asked Questions web page.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T08-0898 to read as follows:

§ 165.T08-0898 Safety Zone; Rocket Test Site, Rio Grande River near Boca Chica, TX.

(a) Location. The following area is a safety zone: All waters of the Rio Grande River, from surface to bottom, from 25°57′15.4″ N, 97°14′30.4″ W (approximately 0.5 miles east of the Massey's test facility), thence westward to 25°57′03.1″ N, 97°15′34.1″ W (approximate 0.5 miles west of the Massey's test facility). These coordinates are based on the World Geodetic System (WGS 84).

(b) Definitions. As used in this section, designated representative means a Coast Guard Patrol Commander, including a Coast Guard coxswain, petty officer, or other officer operating a Coast Guard vessel and a Federal, State, and local officer designated by or assisting the Captain of the Port Sector Corpus Christi (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative on VHF-FM channel 16 or by telephone at 1(800)874-2143. Those in the safety zone must comply with all lawful orders or directions given to them by the COTP or the COTP's designated representative.

(d) Enforcement periods. This section will be enforced when SpaceX conducts operations that involve explosive material. The COTP or a designated representative will inform the public through Broadcast Notices to Mariners (BNMs) and Marine Safety Information Bulletins (MSIBs) of the enforcement times and dates for this security zone.

T.H. Bertheau,
Captain, U.S. Coast Guard, Captain of the Port Sector Corpus Christi.

[FR Doc. 2025-23976 Filed 12-29-25; 8:45 am]

BILLING CODE 9110-04-P